DEPARTMENT OF AGRICULTURE

Submission for OMB Review; Comment Request

January 14, 2014

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by February 20, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Guaranteed Farm Loans

OMB Control Number: 0560-0155

Summary of Collection: The Consolidated Farm and Rural Development Act (CONACT), as amended, authorize the Secretary of Agriculture to make and service loans guaranteed by the Farm Service Agency (FSA) to eligible farmers and ranchers. The statutory authority for the guaranteed loan program is set out in the Code of Federal Regulations, Title 7, Chapter VII, part 762. The loans made and serviced under 762 include farm operating, farm ownership, and soil and water loans and recreation loans. The loan applicant must be a citizen of the United States, own and operate or become the owner and operator of not larger than a family size farm and be unable to obtain sufficient credit elsewhere at reasonable rates and terms. FSA will collect information using several agency forms.

Need and Use of the Information: FSA will collect information to determine lender and loan applicant eligibility for farm loan guarantees, and to ensure the lender protects the government's financial interests. FSA also provides guarantees for loans made by private sellers of a farm or ranch on a land contract sales basis. This information is needed to effectively administer the FSA Land Contract Guarantee Program. If the information were not collected, the agency would be unable to meet the congressionally mandated mission of the guaranteed loan program.

Description of Respondents: Farms; business or other for-profit

Number of Respondents: 16,183

Frequency of Responses: Reporting: Other (when applying for loans)

Total Burden Hours: 253,097

Ruth Brown,
Departmental Information Collection Clearance Officer.

[FR Doc. 2014-01027 Filed 1-17-14; 8:45 am]

BILLING CODE 3410-05-P